GENERAL SERVICES ADMINISTRATION

41 CFR Part 102-42

[FMR Amendment 2005-1; FMR Case 2004-102-8]

RIN 3090-AI02

Federal Management Regulation; Change in Consumer Price Index Minimal Value

AGENCY: Office of Governmentwide Policy, General Services Administration (GSA).

ACTION: Final rule.

SUMMARY: Public Law 95-105 requires that at 3-year intervals following January 1, 1981, minimal value for reporting foreign gifts be redefined by the Administrator of General Services, after consultation with the Secretary of State, to reflect changes in the Consumer Price Index for the immediately preceding 3-year period. The required consultation has been completed and the minimal value has been increased to mean $305 or less as of January 1, 2005.

DATES: Effective Date: This final rule is effective January 1, 2005.

FOR FURTHER INFORMATION CONTACT: The Regulatory Secretariat, Room 4035, GS Building, Washington, DC, 20405, (202) 208-7312, for information pertaining to status or publication schedules. For clarification of content, contact Mr. Robert Holcombe, Director, Personal Property Management Policy Division at (202) 501-3828. Please cite FMR case 2004-102-8, Amendment 2005-1.

SUPPLEMENTARY INFORMATION:

A. Executive Order 12866

The General Services Administration (GSA) has determined that this final rule is not a significant regulatory action for the purposes of Executive Order 12866.

B. Regulatory Flexibility Act

This final rule is not required to be published in the Federal Register for comment. Therefore, the Regulatory Flexibility Act does not apply.

C. Paperwork Reduction Act

The Paperwork Reduction Act does not apply because the changes to the FMR do not impose information collection requirements that require the approval of the Office of Management and Budget under 44 U.S.C. 3501, et seq.

D. Small Business Regulatory Enforcement Fairness Act

This final rule is exempt from Congressional review under 5 U.S.C. 801 since it relates solely to agency management and personnel.

List of Subjects in 41 CFR Part 102-42

Excess government property, Government property management.

Dated: January 6, 2005.
Stephen A. Perry,
Administrator of General Services.

For the reasons set forth in the preamble, GSA amends 41 CFR part 102-42 as set forth below:

PART 102-42—UTILIZATION, DONATION, AND DISPOSAL OF FOREIGN GIFTS AND DECORATIONS

1. The authority citation for part 102-42 is revised to read as follows:

Authority: 40 U.S.C. 121; 5 U.S.C. 7342.

§ 102-42.10 [Amended]

2. Section 102-42.10 is amended in the introductory text of the definition Minimal value by removing “$85” and adding “$305” in its place, and removing the colon and adding an em dash in its place.

[FR Doc. 05-596 Filed 1-11-05; 8:45 am]

BILLING CODE 6820-14-S